Title 3—

The President

Proclamation 9573 of February 2, 2017

American Heart Month, 2017

By the President of the United States of America

A Proclamation

The death rate from heart disease in the United States has fallen dramatically since the 1960s, a significant public health victory. Despite this progress, heart disease remains a leading cause of death for both men and women in the United States, and we must reduce its toll. During American Heart Month, we remember those who have lost their lives to heart disease and resolve to improve its prevention, detection, and treatment. It is a time for all of us to reaffirm our commitment to improving cardiovascular health—for ourselves, our families, and our communities.

Over the past several decades, we have learned much about factors that contribute to heart disease, how to monitor those triggers, and ways to treat them. We know that individuals can live longer and better lives by refraining from tobacco use, maintaining an optimal blood pressure and a healthy weight, eating a healthy diet, and exercising regularly. Innovative companies continue to offer new tools and online systems, giving people more access than ever to information they can use to make informed, health-conscious choices.

Scientific research and evidence-based interventions to prevent or treat heart attacks and strokes have played an important part in making these strides. Developments in technology and the discovery of early markers of heart disease have allowed us to diagnose and treat heart disease sooner than ever before. American innovators continue to develop treatments for high blood pressure and high cholesterol, and our health care providers continue to promote best strategies and educate Americans to stay heart healthy.

To highlight the importance of preventing heart disease, Melania and I invite all Americans to wear red this Friday, February 3, 2017, to observe National Wear Red Day. Working together on National Wear Red Day, and throughout the year, we can raise awareness about heart disease and make our Nation healthier.

In acknowledgement of the importance of the ongoing fight against cardiovascular disease, the Congress, by Joint Resolution approved on December 30, 1963, as amended (36 U.S.C. 101), has requested that the President issue an annual proclamation designating February as American Heart Month.

NOW, THEREFORE, I, DONALD J. TRUMP, President of the United States of America, do hereby proclaim February 2017 as American Heart Month, and I invite all Americans to participate in National Wear Red Day on February 3, 2017. I also invite the Governors of the States, the Commonwealth of Puerto Rico, officials of other areas subject to the jurisdiction of the United States, and the American people to join me in recognizing and reaffirming our commitment to fighting cardiovascular disease.

IN WITNESS WHEREOF, I have hereunto set my hand this second day of February, in the year of our Lord two thousand seventeen, and of the Independence of the United States of America the two hundred and forty-first.

[FR Doc. 2017-02655

Filed 2-6-17; 11:15 am]

Billing code 3295-F7-P